DEPARTMENT OF HEALTH AND HUMAN SERVICES

Centers for Disease Control and Prevention

[30Day-10-09BC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Exploring HIV Prevention Communication Among Black Men Who Have Sex With Men in New York City: Project BROTHA—New. National Center for HIV/AIDS, Viral Hepatitis, STD, and TB Prevention (NCHHSTP), Centers for Disease Control and Prevention (CDC).

Background and Brief Description

CDC is requesting OMB approval to administer a survey, conduct interviews and offer HIV rapid testing in black men who have sex with men (BMSM) and other men who have sex with men (MSM) in New York City. The purpose of the proposed study is to assess how interpersonal communication within BMSM social networks may be related to risk for HIV infection and attitudes towards HIV testing.

After screening for eligibility, a total of 300 BMSM and other MSM in their social networks will be enrolled in 2 phases: (1) 350 BMSM will be recruited and screened to find 100 eligible BMSM participants, and (2) the 100 first phase participants will then recruit 200 other MSM within their social networks to participate in the second phase. Quantitative surveys will be administered by computers and personal interviews will be conducted to collect qualitative data (at baseline and 3-month follow-up). Participants in both phases will be offered rapid HIV testing, and declining an HIV test will not negatively impact their study participation. The research questions being explored are relevant for understanding how interpersonal communication with members of one's social networks are related to risk for contracting HIV infection and attitudes towards HIV testing.

This study will provide important epidemiologic information useful for the development of HIV prevention interventions for BMSM. Men will complete a 5-minute eligibility screening interview. The baseline computer-based survey will take 45 minutes. The qualitative interview will take approximately 75 minutes. The number of respondents who will accept HIV testing is estimated to be 200 (accounting for those who did not test at baseline and those who do not consent to test at follow-up). HIV counseling and rapid testing will take 45 minutes. The 3-month follow-up survey will take approximately 30 minutes; the follow-up qualitative interview will take approximately 45 minutes. There is no cost to the respondents other than their time. The estimated annualized burden hours are 1338.

Estimate of Annualized Burden Hours
Respondents | Types of data collection | Number of respondents | Number of responses per respondent | Burden per response (in hours)
BMSM/MSM volunteers | Screening | 750 | 1 | 5/60
| A-CASI Baseline | 300 | 1 | 45/60
| Interview Baseline | 300 | 1 | 1.25
| HIV Testing & Counseling Baseline | 200 | 1 | 45/60
| A-CASI 3 month Follow-up | 300 | 1 | 30/60
| Interview 3 month Follow-up | 300 | 1 | 45/60
| HIV Testing & Counseling 3 month Follow-up | 200 | 1 | 45/60

Dated: July 21, 2010.
Maryam I. Daneshvar
Reports Clearance Officer, Centers for Disease Control and Prevention.

[FR Doc. 2010-18396 Filed 7-26-10; 8:45 am]

BILLING CODE 4163-18-P